NATIONAL AERONAUTICS AND SPACE ADMINISTRATION

[Notice: (14-027)]

NASA Advisory Council; Science Committee; Meeting

AGENCY: National Aeronautics and Space Administration.

ACTION: Notice of meeting.

SUMMARY: In accordance with the Federal Advisory Committee Act, Public Law 92-463, as amended, the National Aeronautics and Space Administration (NASA) announces a meeting of the Science Committee of the NASA Advisory Council (NAC). This Committee reports to the NAC. The meeting will be held via Teleconference and WebEx for the purpose of soliciting, from the scientific community and other persons, scientific and technical information relevant to program planning.

DATES: Wednesday, April 9, 2014, 2:00 p.m. to 6:00 p.m., Local Time

FOR FURTHER INFORMATION CONTACT: Ms. Ann Delo, Science Mission Directorate, NASA Headquarters, Washington, DC 20546, (202) 358-0750, fax (202) 358-2779, or ann.b.delo@nasa.gov.

SUPPLEMENTARY INFORMATION: This meeting will be open to the public telephonically and by WebEx. Any interested person may call the USA toll free conference call number 888-982-4613, passcode Science, to participate in this meeting by telephone. The WebEx link is https://nasa.webex.com/, meeting number 396 523 409, password is SC@April9. The agenda for the meeting includes the following topic:

—Science Mission Directorate FY 2015 Budget Request

It is imperative that the meeting be held on this date to accommodate the scheduling priorities of the key participants.

Patricia D. Rausch,
Advisory Committee Management Officer, National Aeronautics and Space Administration.

[FR Doc. 2014-05644 Filed 3-13-14; 8:45 am]

BILLING CODE 7510-13-P